DEPARTMENT OF ENERGY

[GDO Docket No. EA-521]

Application for Authorization To Export Electric Energy; Halia Energy LLC

AGENCY: Grid Deployment Office, U.S. Department of Energy.

ACTION: Notice of application.

SUMMARY: Halia Energy LLC (the Applicant or Halia Energy) has applied for authorization to transmit electric energy from the United States to Canada pursuant to the Federal Power Act.

DATES: Comments, protests, or motions to intervene must be submitted on or before July 16, 2025.

ADDRESSES: Comments, protests, motions to intervene, or requests for more information should be addressed by electronic mail to Electricity.Exports@hq.doe.gov.

FOR FURTHER INFORMATION CONTACT: Janessa Zucchetto, (240) 474-8226, or Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On February 25, 2025, Halia Energy filed an application (Application or App.) for authorization to transmit electric energy from the United States to Canada for a term of five years. App. at 1.

According to the Application, the Applicant asserts that it “is a power marketer authorized by the [Federal Energy Regulatory Commission (FERC)] to make sales of electric power at wholesale in interstate commerce at market-based rates.” Id. at 2. Halia Energy states that it is a “Delaware limited liability company, [and] is a direct wholly owned subsidiary of Halia Energy US ApS, a corporation organized under the laws of Denmark.” Id. at 1.

Halia Energy represents that it “does not own, operate, or control generation facilities or transmission facilities, and does not have a franchised service area.” App. at 2. Further, Halia Energy states that it does not have a “service territory or native load obligation.” Id. at 4. The Applicant represents that the electricity it will export will be surplus to the needs of the selling entities and thus under such circumstances will “not impair the sufficiency of electric supply within the U.S.” Id. at 4-5.

Halia Energy further asserts that it “will schedule its exports from the U.S. in compliance with all applicable reliability criteria, standards, and guides as are set out by the [North American Electric Reliability Corporation], the North American Energy Standards Board, and regional reliability councils as applied by U.S. transmission providers.” App. at 5. The Applicant states that it “does not have the ability to cause total exports on Presidential Permit facilities to exceed the authorized instantaneous transmission rate.” Id. at 6. The Applicant asserts that compliance with applicable statutes, rules, regulations, and orders will ensure that the transmission of its proposed exports “will not impede or tend to impede the regional coordination of electric utility planning or operation.” Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Halia Energy's Application should be clearly marked with GDO Docket No. EA-521. Additional copies are to be provided directly to Joshua Robichaud and Michael Brooks, Bracewell LLP, 2001 M Street NW, Suite 900, Washington, DC 20036, josh.robichaud@bracewell.com and michael.brooks@bracewell.com, and Anders Berg Damm, Halia Energy LLC, 8 The Green, #14979, Dover, Delaware 19901, anders@haliaenergy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on June 10, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 12, 2025.
Treena V. Garrett,
Federal Register Liaison Officer, U.S. Department of Energy.

[FR Doc. 2025-11006 Filed 6-13-25; 8:45 am]

BILLING CODE 6450-01-P